DEPARTMENT OF TRANSPORTATION

Federal Aviation Administration

FAA Approval of Noise Compatibility Program 14 CFR Part 150; Port Columbus International Airport, Columbus, OH

AGENCY: Federal Aviation Administration, DOT.

ACTION: Notice.

SUMMARY: The Federal Aviation Administration (FAA) announces its findings on the noise compatibility program (NCP) submitted by the Columbus Regional Airport Authority (CRAA) under the provisions of 49 U.S.C. Sections 47501, et seq. (the Aviation Safety and Noise Abatement Act, hereinafter referred to as “the Act”) and 14 CFR Part 150 (Part 150). These findings are made in recognition of the description of Federal and nonfederal responsibilities in Senate Report No. 96-52 (1980). On December 5, 2007 the FAA determined that the noise exposure maps submitted by the CRAA under Part 150 were in compliance with applicable requirements. On May 19, 2008, the FAA approved the Port Columbus International Airport noise compatibility program updates. Twenty-one (21) measures were approved or approved as voluntary. Four (4) measures required no action. Two (2) program elements related to new or revised flight procedures for noise abatement that were proposed by CRAA.

DATES: Effective Date: The effective date of the FAA's approval of the Port Columbus International Airport noise compatibility program is May 19, 2008.

FOR FURTHER INFORMATION CONTACT: Ms. Katherine S. Jones, Community Planner, Detroit Airports District Office, Metro Airport Center, 11677 South Wayne Road, Suite 107, Romulus, Michigan, Phone (734) 229-2900. Documents reflecting this FAA action may be reviewed at this same location.

SUPPLEMENTARY INFORMATION: This notice announces that the FAA has given its overall approval to the noise compatibility program for Port Columbus International Airport, effective May 19, 2008.

Under Section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties, including local communities, government agencies, airport users, and FAA personnel.

Each airport noise compatibility program developed in accordance with Part 150 is a local program, not a Federal program. The FAA does not substitute its judgment for that of the airport sponsor with respect to which measures should be recommended for action. The FAA's approval or disapproval of Part 150 program recommendations is measured according to the standards expressed in Part 150 and the Act and is limited to the following:

a. The noise compatibility program was developed in accordance with the provisions and procedures of Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in 14 CFR 150.5. Approval is not a determination concerning the acceptability of land uses under Federal, State, or local law. Approval does not by itself constitute an FAA implementing action. A request for Federal action or approval to implement specific noise compatibility measures may be required, and an FAA decision on the request may require an environmental determination of the proposed action. Approval does not constitute a commitment by the FAA to financially assist in the implementation of the program nor a determination that all measures covered by the program are eligible for grant-in-aid funding from the FAA. Where Federal funding is sought, requests for project grants must be submitted to the FAA Detroit Airports District Office in Romulus, Michigan.

On November 27, 2007, the CRAA submitted to the FAA the noise exposure maps, descriptions, and other documentation produced during the noise compatibility planning study conducted in 2006-2007. The Port Columbus International Airport noise exposure maps were determined by FAA to be in compliance with applicable legal requirements on December 5, 2007. Notice of this determination was published in the Federal Register on December 20, 2007 (FR Doc. 07-6109 Filed 12-19-07; 8:45 a.m.).

The CRAA study contains a proposed noise compatibility program comprised of actions designed for phased implementation by airport management and local jurisdictions starting in 2008. It was requested that the FAA evaluate and approve this material as a NCP as described in Section 47504 of the Act. The FAA began its review of the program on December 5, 2007, and was required by a provision of the Act to approve or disapprove the program within 180 days (other than the use of new or modified flight procedures for noise control).

The submitted program contained twenty-seven (27) proposed actions for noise mitigation on and/or off the airport which continue or expand the intent of the 2001 Record of Approval (ROA) approval. The FAA previously approved twenty-one (21) of these measures on January 10, 2001. The 2007 NCP recommends twenty-five (25) proposed actions for approval and two (2) actions to be withdrawn. The proposed actions are a combination of existing, amended, and new from the 2001 ROA. The FAA completed its review and determined that the procedural and substantive requirements of the Act and Part 150 have been satisfied. The overall program, therefore, was approved by the FAA effective May 19, 2008.

Consistent with the 2001 ROA, the 2008 ROA approved all twenty-five (25) proposed actions in the NCP. Outright approval was granted for nineteen (19) program elements. These elements were: Amend the Port Columbus International Airport Night Time Aircraft Runway-up Policy to designate a new run-up location such that EJA's new building will provide attenuation of jet engine maintenance run-ups for adjacent residential areas located along 1-270; construct a noise berm/wall; replacement and potential relocation of Ground Run-up Barrier B (location/materials/size); offer a program for noise insulation for noncompatible structures for noncompatible residences within the 65+ DNL contour for Future (2012) Noise Compatibility Program condition, in exchange for an avigation easement; seek cooperation from the City of Columbus and Franklin County to amend their land use compatibility standards to achieve the level of compatibility identified in the recommended land use compatibility guidelines; seek cooperation from the City of Columbus and Franklin County to amend the boundaries of the Airport Environs Overlay (AEO) district to include proposed Airport Land Use Management District corresponding to the 60 DNL of the 20-year NCP contour (2023); seek cooperation from the Franklin County, City of Gahanna, and Jefferson Township to amend the Franklin County zoning resolution, Section 660.07, Avigation Easement, to require applicants for rezoning, change of use, or special use permit to convey an avigation easement to the appropriate Airport; seek cooperation from Jefferson Township and the City of Gahanna to adopt the proposed Airport Land Use Management District as part of their official zoning regulations; seek cooperation from Franklin County, Jefferson Township, Mifflin Township, and the City of Gahanna to adopt subdivision codes applicable to the proposed Airport Land Use Management District; seek cooperation from Franklin County, Jefferson Township, Mifflin Township, and the City of Gahanna to adopt building codes applicable to the proposed Airport Land Use Management District; seek cooperation from the board of realtors to participate in a fair disclosure program for property located within the proposed Airport Land Use Management District; periodically place advertisements in a variety of media outlets delineating the boundaries of the Airport Land Use Management District; development an Airport Land Use Management District based on the 2023 Noise Exposure Map/Noise Compatibility Program noise contour, other geographic, and jurisdictional boundaries; maintain the noise abatement elements of FAA (Airport Traffic Control Tower) ATCT Tower Order; maintain the Noise Management Office for noise compatibility program management; maintain an on-going public involvement program regarding the noise compatibility program; maintain the noise and flight track monitoring system and expand and upgrade the system as necessary and add four permanent noise monitoring towers and upgrade the computer software and hardware as necessary; routinely update the noise contours and periodically update the noise program; and establish a land use compatibility task force which meets periodically to discuss issues relevant to airport noise compatibility planning. Approval as a voluntary measure was granted for two (2) program elements. These elements were: Increase nighttime use of Runway 10L/28R and amend FAA Tower Order CMH ATCT 7110.1 to read as follows: “Unless wind, weather, runway closure, or loss of NAVAIDs dictate otherwise, between the hours of 10 p.m. and 8 a.m. local time, runways 28L and 10R are assigned jet aircraft; jet aircraft with Stage 3 engines may use Runway 10L/28R for arrival operations between the hours of 10 p.m. and 1 a.m. local time; and jet aircraft with Stage 3 engines may use Runway 10L and 28R after 6 a.m.”; and maximize east flow and amend FAA Tower Order CMH ATCT 7110.lb and the Airport Facilities Directory to reflect implementation of the “east flow” informal preferential runway use system. No action was taken on two (2) program elements. These elements were: Construct a new run-up barrier at the north airfield, if the EJA (NetJets) building does not adequately attenuate jet maintenance run-up noise for adjacent residential areas located along 1-270; and offer a program for noise insulation for noncompatibile structures for noncompatible churches within the 65+ DNL contour for the 2012 NEMINCP condition in exchange for an avigation easement. No action was required as the measure relates to flight procedures under 49 U.S.C. 47504 was taken on two (2) program elements. These program elements were: Implement a 15-degree turn off of Runway 28R, after crossing the runway end to a 295-degree heading, only during peak operating periods when traffic warrants; and create performance-based overlay procedures for all existing and proposed arrival/departure procedures (RNAV/RNP/GPS/CDA).

These determinations are set forth in detail in a ROA signed by the Great Lakes Region Airports Division Manager on May 19, 2008. The ROA, as well as other evaluation materials and the documents comprising the submittal, are available for review at the FAA office listed above. The ROA also will be available online at http://www.faa.gov/airports_airtraffic/airports/environmental/airport_noise .

Dated: May 28, 2008.
Issued in Romulus, Michigan.
Matthew J. Thys,
Manager, Detroit Airports District Office, Great Lakes Region.

[FR Doc. E8-12591 Filed 6-6-08; 8:45 am]

BILLING CODE 4910-13-M